DEPARTMENT OF TRANSPORTATION

Federal Aviation Administration

Agency Information Collection Activities: Requests for Comments; Clearance of Renewed Approval of Information Collection: Small Unmanned Aircraft Registration System (sUAS)

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on November 3, 2017. Aircraft registration is necessary to ensure personal accountability among all users of the national airspace system. Aircraft registration also allows the FAA and law enforcement agencies to address non-compliance by providing the means by which to identify an aircraft's owner and operator. This collection also permits individuals to amend their record in the registration database.

DATES: Written comments should be submitted by March 1, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Claire Barrett by email at: pra@dot.gov; 202-366-8135; Barbara Hall by email at: Barbara.L.Hall@faa.gov; phone: 940-594-5913.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0765.

Title: Small Unmanned Aircraft Registration System (sUAS).

Form Numbers: There are no FAA forms associated with this collection.

Type of Review: Renewal of an information collection.

Background: The Secretary of the Department of Transportation (DOT) and the Administrator of the Federal Aviation Administration (FAA) affirmed that all unmanned aircraft are aircraft. As such, in accordance with 49 U.S.C. 44101(a) and as further prescribed in 14 CFR part 47, registration is required prior to operation. See 80 FR 63912, 63913 (October 22, 2015). Aircraft registration is necessary to ensure personal accountability among all users of the national airspace system. Aircraft registration also allows the FAA and law enforcement agencies to address non-compliance by providing the means by which to identify an aircraft's owner and operator.

Registration is required for all aircraft, including small unmanned aircraft weighing more than 0.55 pounds on takeoff, including everything that is on board or otherwise attached to the aircraft and operated outdoors in the national airspace system. See 49 U.S.C. 44101-44103; 14 CFR 48. Upon registration, the Administrator must issue a certificate of registration to the aircraft owner. See 49 U.S.C. 44103.

Registration, however, does not provide the authority to operate. Persons intending to operate a small unmanned aircraft exclusively as model aircraft must operate in compliance with section 336 of Public Law 112-95. Persons intending to operate their small unmanned aircraft not exclusively in compliance with section 336 must operate in accordance with part 107 or part 91, in accordance with a waiver issued under part 107, in accordance with an exemption issued under 14 CFR part 11 (including those persons operating under an exemption issued pursuant to section 333 of Public Law 112-95), or in conjunction with the issuance of a special airworthiness certificate.

As a result of the May 19, 2017 ruling by the U.S. Court of Appeals for the District of Columbia Circuit (Taylor v. Huerta), the Small UAS Registration and Marking interim final rule was vacated to the extent it applied to model aircraft until Congress restored registration for model aircraft in the National Defense Authorization Act of 2018 (P.L. 115-91). Consequently, the FAA has discontinued its process for registration deletion and refund for owners operating in compliance with section 336. All owners of small unmanned aircraft weighing more than .55 pounds must register prior to operating outdoors in the national airspace system.

Respondents: Approximately 1.9 million registrants annually.

Frequency: Information is collected on occasion.

Estimated Average Burden per Response: 4.25 minutes per response.

Estimated Total Annual Burden: About 141,158 hours.

Issued in Washington, DC on January 24, 2018.
Barbara Hall,
FAA Information Collection Clearance Officer, IT Enterprises Business Services Division, ASP-110.

[FR Doc. 2018-01800 Filed 1-29-18; 8:45 am]

BILLING CODE 4910-13-P